DEPARTMENT OF TRANSPORTATION

Coast Guard

33 CFR Part 117

[CGD01-00-234]

RIN 2115-AE47

Drawbridge Operation Regulations; Fort Point Channel, MA

AGENCY: Coast Guard, DOT.

ACTION: Notice of proposed rulemaking.

SUMMARY: The Coast Guard proposes to change the drawbridge operating regulations for the Northern Avenue Bridge, mile 0.1, across the Fort Point Channel at Boston, Massachusetts. This proposed rule would revise the drawbridge operating regulations to provide bridge openings during times the bridge previously did not open and also place the bridge on an advance notice basis during times when there have been few requests to open the bridge. This action is expected to better meet the present needs of navigation.

DATES: Comments must reach the Coast Guard on or before January 8, 2001.

ADDRESSES: You may mail comments to Commander (obr), First Coast Guard District, Bridge Branch, at 408 Atlantic Avenue, Boston, MA. 02110-3350, or deliver them to the same address between 7 a.m. and 3 p.m., Monday through Friday, except Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except, Federal holidays.

FOR FURTHER INFORMATION CONTACT: Mr. John McDonald, Project Officer, First Coast Guard District, (617) 223-8364.

SUPPLEMENTARY INFORMATION:

Request for comments

We encourage you to participate in this rulemaking by submitting comments or related material. If you do so, please include your name and address, identify the docket number for this rulemaking (CGD01-00-234), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background and Purpose

The Northern Avenue Bridge, mile 0.1, across the Fort Point Channel has a vertical clearance of 7 feet at mean high water and 17 feet at mean low water in the closed position. The existing operating regulations in 33 CFR 117.599 require the bridge to open on signal from 6 a.m. to 8 p.m. From 8 p.m. to 6 a.m., the bridge need not open for the passage of vessels.

The Coast Guard received a request to change the operating regulations from a commercial tour boat operator and the mariners located at a marina upstream from the Northern Avenue Bridge. The mariners requested that the bridge be crewed and available to open for vessel traffic after 8 p.m. during the boating season. The bridge presently does not open from 8 p.m. to 6 a.m., daily.

The Coast Guard published a notice of temporary deviation and request for comments on April 27, 2000, in order to test an expanded operating schedule for the bridge and to provide immediate relief for the mariners during the summer of 2000. The deviation required the bridge to open on signal from 6 a.m. to 8 p.m. and from 8 p.m. to 6 a.m. to open on signal if at least a two-hour advance notice was provided by calling the number posted at the bridge. The Coast Guard received four letters in favor of expanding the operating hours for the bridge.

After the comment period for the deviation concluded on September 30, 2000, the Coast Guard had discussions regarding the expansion of the operating hours for the bridge with officials from the City of Boston, the owner of the bridge. As a result of these discussions, the bridge owner agreed to crew the bridge additional hours as well as provide openings on an advance notice basis during times when the bridge is not crewed. The following scheduled was established:

From May 1 through October 31, the draw shall open on signal from 7 a.m. to 11 p.m. From 11 p.m. to 7 a.m. the draw shall open on signal if at least a two-hour advance notice is given by calling the number posted at the bridge.

From November 1 through April 30, the draw shall open on signal from 7 a.m. to 3 p.m. From 3 p.m. to 7 a.m. the draw shall open on signal if at least a twenty-four hours advance notice is given by calling the number posted at the bridge.

The Coast Guard believes this is a reasonable operating schedule because the mariners will now be able to get bridge openings during the times the bridge is crewed or upon the required advance notice, and the bridge owner will not be required to crew the bridge during periods when there have been few requests to open the bridge.

Discussion of Proposal

The existing requirement that the bridge need not open for vessel traffic from 8 p.m. to 6 a.m., without any advance notice requirement, does not meet the reasonable needs of navigation based upon recent requests from mariners to expand the operating hours of the bridge. Mariners should be able to obtain bridge openings anytime one is necessary with the exception of cases where a demonstrated offsetting benefit is derived.

A typical example of an offsetting benefit would be closing a bridge to vessel traffic during the vehicular traffic rush hour time period and allowing vehicular traffic to pass unimpeded in an effort to balance the needs of both modes of transportation. Conversely, bridge owners should not be required to crew bridges during time periods when there have been few or no requests to open a bridge.

The Coast Guard believes that crewing the bridge an additional three hours at night during the boating season and the addition of an advance notice concept for all the periods the bridge is not crewed is reasonable and satisfies both the needs of navigation and the needs of the bridge owner.

The Coast Guard; therefore, proposes to revise the operating regulations listed at 33 CFR 117.599 for the Northern Avenue Bridge across the Fort Point Channel to require the Northern Avenue Bridge, mile 0.1, at Boston, to operate as follows:

(a) From May 1 through October 31, the draw would open on signal from 7 a.m. to 11 p.m. From 11 p.m. to 7 a.m. the draw would open on signal if at least a two-hour advance notice is given by calling the number posted at the bridge.

(b) From November 1 through April 30, the draw would open on signal from 7 a.m. to 3 p.m. From 3 p.m. to 7 a.m. the draw would open on signal if at least a twenty-four hours advance notice is given by calling the number posted at the bridge.

It is expected that this rule will better meet the present needs of navigation.

Regulatory Evaluation

This proposed rule is not a “significant regulatory action” under section 3(f) of Executive Order 12866 and does not require an assessment of potential costs and benefits under 6(a)(3) of that Order. The Office of Management and Budget has not reviewed it under that Order. It is not significant under the regulatory policies and procedures of the Department of Transportation (DOT) (44 FR 11040, Feb. 26, 1979).

We expect the economic impact of this proposed rule to be so minimal that a full Regulatory Evaluation, under paragraph 10e of the regulatory policies and procedures of DOT, is unnecessary. This conclusion is based on the fact that the bridge will be crewed at times to meet the needs of navigation and will be on an advance notice basis during the times when there have been few requests to open the bridge.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities. This conclusion is based upon the fact that the bridge will better meet the present needs of navigation and will not be crewed unnecessarily during times when there have been few requests to open the bridge.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

We have analyzed this proposed rule under E.O. 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose an unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

We considered the environmental impact of this proposed rule and concluded that, under figure 2-1, paragraph (32)(e), of Commandant Instruction M16475.1C, this proposed rule is categorically excluded from further environmental documentation because promulgation of drawbridge regulations have been found not to have a significant effect on the environment. A written “Categorical Exclusion Determination” is not required for this rule.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.599 is revised to read as follows:

§ 117.599 Fort Point Channel.

The draw of the Northern Avenue Bridge, mile 0.1, at Boston, shall operate as follows:

(a) From May 1 through October 31, the draw shall open on signal from 7 a.m. to 11 p.m. From 11 p.m. to 7 a.m. the draw shall open on signal if at least a two-hour advance notice is given by calling the number posted at the bridge.

(b) From November 1 through April 30, the draw shall open on signal from 7 a.m. to 3 p.m. From 3 p.m. to 7 a.m. the draw shall open on signal if at least a twenty-four hours advance notice is given by calling the number posted at the bridge.

Dated: October 23, 2000.
Gerald M. Davis,
Captain, U.S. Coast Guard, Acting Commander, First Coast Guard District.

[FR Doc. 00-28648 Filed 11-7-00; 8:45 am]

BILLING CODE 4910-15-P